DEPARTMENT OF COMMERCE

National Oceanic and Atmospheric Administration

RIN 0648-XF518

Marine Conservation Plan for Pacific Insular Areas Other Than American Samoa, Guam, and the Northern Mariana Islands; Western Pacific Sustainable Fisheries Fund

AGENCY: National Marine Fisheries Service (NMFS), National Oceanic and Atmospheric Administration (NOAA), Commerce.

ACTION: Notice of agency decision.

SUMMARY: NMFS announces approval of a Marine Conservation Plan (MCP) for Pacific Insular Areas other than American Samoa, Guam, and the Northern Mariana Islands.

DATES: This agency decision is valid from August 4, 2017, through August 3, 2020.

ADDRESSES: You may obtain a copy of the MCP, identified by NOAA-NMFS-2017-0077, from the Federal e-Rulemaking Portal, http://www.regulations.gov/#!docketDetail;D=NOAA-NMFS-2017-0077, or from the Western Pacific Fishery Management Council (Council), 1164 Bishop St., Suite 1400, Honolulu, HI 96813, tel 808-522-8220, www.wpcouncil.org.

FOR FURTHER INFORMATION CONTACT: Melanie Brown, Sustainable Fisheries, NMFS Pacific Islands Regional Office, 808-725-5171.

SUPPLEMENTARY INFORMATION: Section 204(e) of the Magnuson-Stevens Fishery Conservation and Management Act (Magnuson-Stevens Act) authorizes the Secretary of State, with the concurrence of the Secretary of Commerce (Secretary), and at the request and in consultation with the Council, to negotiate and enter into a Pacific Insular Area fishery agreement (PIAFA). A PIAFA would allow foreign fishing within the U.S. Exclusive Economic Zone (EEZ) adjacent to a Pacific Insular Area other than American Samoa, Guam, or the Northern Mariana Islands, that is, in the EEZ around the Pacific Remote Island Areas (PRIA). The PRIA are Baker Island, Howland Island, Jarvis Island, Johnston Atoll, Kingman Reef, Midway Island, Wake Island, and Palmyra Atoll. Before entering into a PIAFA for the PRIA, the Council must develop and submit to the Secretary a 3-year MCP that details the uses for funds collected by the Secretary under the PIAFA. NMFS is the designee of the Secretary for MCP review and approval.

The Magnuson-Stevens Act requires any payments received under a PIAFA, and any funds or contributions received in support of conservation and management objectives for the PRIA MCP, to be deposited into the Western Pacific Sustainable Fisheries Fund (Fund) for use by the Council. Additionally, amounts received by the Secretary attributable to fines and penalties imposed under the Magnuson-Stevens Act for violations by foreign vessels occurring in the EEZ off the PRIA are deposited into the Fund for use by the Council. Section 204(e)(7)(C) of the Magnuson-Stevens Act also authorizes the Council to use the Fund to meet conservation and management objectives in the State of Hawaii, if funds remain after implementing the PRIA MCP.

An MCP must be consistent with the Council's fishery ecosystem plans (FEPs), identify conservation and management objectives (including criteria for determining when such objectives have been met), and prioritize planned marine conservation projects. Although no foreign fishing in the PRIA is being considered at this time, the Council reviewed and approved the draft MCP for PRIA in June 2017 and sent the MCP to NMFS for review on July 7, 2017.

The PRIA MCP contains five conservation and management objectives, consistent with the PRIA and Pelagic FEPs:

1. Support quality research and monitoring to obtain the most complete scientific information available to assess and manage fisheries within an ecosystem approach.

2. Conduct education and outreach to foster good stewardship principles and broad and direct public participation in the Council's decision-making process.

3. Promote regional cooperation to manage domestic and international fisheries.

4. Encourage development of technologies and methods to achieve the most effective level of monitoring, control, and surveillance, and to ensure safety at sea.

5. Support Western Pacific community demonstration projects and Western Pacific Community Development Program to promote participation and access to fisheries for eligible communities.

In addition, the PRIA MCP contains seven conservation and management objectives, consistent with the Hawaii FEP:

1. Support quality research and monitoring to obtain the most complete scientific information available to assess and manage fisheries within an ecosystem approach.

2. Promote an ecosystem approach to fisheries management including reducing bycatch in fisheries, minimizing impacts on marine habitats and protected species, and addressing climate change adaptation and mitigation.

3. Conduct education and outreach to foster good stewardship principles and broad and direct public participation in the Council's decision-making process.

4. Recognize the importance of island cultures and traditional fishing practices in managing fishery resources and foster opportunities for participation.

5. Promote responsible domestic fisheries development to provided long-term economic growth and stability by reducing foreign imports and increasing local seafood production.

6. Promote regional cooperation and capacity-building to manage domestic and international fisheries.

7. Encourage development of technologies and methods to achieve the most effective level of monitoring, control, and surveillance, and to ensure safety at sea.

Please refer to the MCP for planned projects and activities designed to meet each conservation and management objective, for the evaluative criteria, and for the priority rankings.

This notice announces that NMFS has reviewed the MCP for the PRIA, and has determined that it satisfies the requirements of the Magnuson-Stevens Act. Accordingly, NMFS has approved the MCP for the 3-year period from August 4, 2017, through August 3, 2020. This MCP supersedes the MCP previously approved for the period August 4, 2014, through August 3, 2017 (79 FR 44753, August 1, 2014).

Dated: August 8, 2017.
Emily H. Menashes,
Acting Director, Office of Sustainable Fisheries, National Marine Fisheries Service.

[FR Doc. 2017-16988 Filed 8-10-17; 8:45 am]

BILLING CODE 3510-22-P